DEPARTMENT OF THE TREASURY

Agency Information Collection Activities; Submission for OMB Review; Comment Request; Administering the Government Securities Act Regulations

AGENCY: Departmental Offices, Department of the Treasury.

ACTION: Notice of information collection; request for comment.

SUMMARY: The Department of the Treasury will submit the following information collection request to the Office of Management and Budget (OMB) for review and clearance in accordance with the Paperwork Reduction Act of 1995, on or after the date of publication of this notice. The public is invited to submit comments on this request.

DATES: Comments should be received on or before October 21, 2024 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Bureau of the Fiscal Service

Title: Administering the Government Securities Act Regulations (17 CFR chapter IV).

OMB Control Number: 1506-0064.

Type of Review: Extension without change of a currently approved collection.

Description: The regulations require government securities broker and dealers to make and keep certain records concerning their business activities and their holdings of government securities, to submit financial reports, and to make certain disclosures to investors. The regulations also require depository institutions to keep certain records of non-fiduciary custodial holdings of government securities. The regulations and associated collections are fundamental to customer protection and dealer financial responsibility.

Forms: G-FIN-4, G-FIN-5, G-405 Part I, G-405 Part II, G-405 Part IIA, G-405 Part III, G-405 Schedule I.

Affected Public: Private Sector (Government securities brokers and dealers and financial institutions).

Estimated Number of Respondents: 2,879.

Frequency of Response: On occasion.

Estimated Total Number of Annual Responses: 2,879.

Estimated Time per Response: Varies by form and recordkeeping requirement. Average is 71.65 hours per response.

Estimated Total Annual Burden Hours: 206,293.

Authority: 44 U.S.C. 3501 et seq.

Spencer W. Clark,
Treasury PRA Clearance Officer.

[FR Doc. 2024-21510 Filed 9-19-24; 8:45 am]

BILLING CODE 4810-AS-P